FEDERAL COMMUNICATIONS COMMISSION

47 CFR Parts 14 and 64

[WC Docket Nos. 23-62, 12-375; Report No. 3221; FR ID 258977]

Incarcerated People's Communication Services; Implementation of the Martha Wright-Reed Act; Rates for Interstate Inmate Calling Services

AGENCY: Federal Communications Commission.

ACTION: Notice of Petitions for Reconsideration of Action in Rulemaking Proceeding.

SUMMARY: Petitions for Reconsideration (Petitions) have been filed in the Commission's proceeding by Stephen A. Raher; Zainab Alkebsi on behalf of Deaf Equality and AnnMarie Killian on behalf of TDIAccess; Glenn S. Richards and Lee G. Petro on behalf of Network Communications International Corporation d/b/a NCIC Correctional Services; and Michal J. Nowicki on behalf of HomeWAV, LLC.

DATES: Oppositions to the Petitions must be filed on or before November 25, 2024. Replies to oppositions to the Petitions must be filed on or before December 5, 2024.

ADDRESSES: You may submit oppositions and replies, identified by WC Docket Nos. 23-62, 12-375, by any of the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8 a.m. and 4 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530.

FOR FURTHER INFORMATION CONTACT: Ahuva Battams, Attorney Advisor, Pricing Policy Division of the Wireline Competition Bureau, 202-418-1565, or ahuva.battams@fcc.gov.

SUPPLEMENTARY INFORMATION: This is a summary of the Commission's document, Report No. 3221, released October 28, 2024. The full text of the document is available at: https://docs.fcc.gov/public/attachments/DOC-406953A1.pdf. The full text of Stephen A. Raher Petition for Reconsideration is available at: https://www.fcc.gov/ecfs/document/1015670416887/1 and https://www.fcc.gov/ecfs/document/102160472621/1. The full text of the Deaf Equality and TDIAccess Petition for Reconsideration is available at: https://www.fcc.gov/ecfs/document/101865289500/1.

The full text of the NCIC Petition for Reconsideration is available at: https://www.fcc.gov/ecfs/document/1021017208822/1.

The full text of the HomeWAV Petition for Reconsideration is available at: https://www.fcc.gov/ecfs/document/1021739312979/1. The Commission will not send a Congressional Review Act (CRA) submission to Congress or the Government Accountability Office pursuant to the CRA, 5 U.S.C. 801(a)(1)(A), because no rules are being adopted by the Commission.

Subject: Incarcerated People's Communications Services, FCC 24-75, published at 89 FR 77244, September 20, 2024, in WC Docket Nos. 23-62, 12-375.

Number of Petitions Filed: 4.

Federal Communications Commission.
Marlene Dortch,
Secretary, Office of the Secretary.

[FR Doc. 2024-25913 Filed 11-7-24; 8:45 am]

BILLING CODE 6712-01-P